FEDERAL ELECTION COMMISSION

[Notice 2009-29]

Filing Dates for the Florida Special Election in the 19th Congressional District

AGENCY: Federal Election Commission.

ACTION: Notice of filing dates for special election.

SUMMARY: The Governor of Florida has rescheduled the date of the Special General Election to fill the U.S. House seat in the 19th Congressional District being vacated by Representative Robert Wexler. The Special General Election, formerly set for April 6, 2010, will now be held on April 13, 2010. The Special Primary Election date remains unchanged.

Committees required to file reports in connection with the Special Primary Election on February 2, 2010, shall file a 12-day Pre-Primary Report. Committees required to file reports in connection with both the Special Primary and Special General Election on April 13, 2010, shall file a 12-day Pre-Primary Report, a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Florida Special Primary and Special General Elections shall file a 12-day Pre-Primary Report on January 21, 2010; a 12-day Pre-General Report on April 1, 2010; and a 30-day Post-General Report on May 13, 2010. (See chart below for the closing date for each report).

All principal campaign committees of candidates participating only in the Special Primary Election shall file a 12-day Pre-Primary Report on January 21, 2010. (See chart below for the closing date for each report).

Note that these reports are in addition to the campaign committee's quarterly filings in April and July. (See chart below for the closing date for each report).

Unauthorized Committees (PACs and Party Committees)

Political committees filing on a quarterly basis in 2010 are subject to special election reporting if they make previously undisclosed contributions or expenditures in connection with the Florida Special Primary or Special General Elections by the close of books for the applicable report(s). (See chart below for the closing date for each report).

Since disclosing financial activity from two different calendar years on one report would conflict with the calendar year aggregation requirements stated in the Commission's disclosure rules, unauthorized committees that trigger the filing of the Pre-Primary Report will be required to file this report on two separate forms: One form to cover 2009 activity, labeled as the Year-End Report; and the other form to cover only 2010 activity, labeled as the Pre-Primary Report. Both forms must be filed by January 21, 2010.

Committees filing monthly that make contributions or expenditures in connection with the Florida Special Primary or Special General Elections will continue to file according to the monthly reporting schedule.

Additional disclosure information in connection with the Florida Special Election may be found on the FEC Web site at http://www.fec.gov/info/report_dates.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v).

The lobbyist bundling disclosure threshold for calendar year 2009 is $16,000. This threshold amount may increase in 2010 based upon the annual cost of living adjustment (COLA). As soon as the adjusted threshold amount is available, the Commission will publish it in the Federal Register and post it on its Web site. 11 CFR 104.22(g) and 110.17(e)(2). For more information on these requirements, see Federal Register Notice 2009-03, 74 FR 7285 (February 17, 2009).

Calendar of Reporting Dates for Florida Special Election
Report | Close of books¹ | Reg. cert. & overnight mailing deadline | Filing deadline
Committees Involved in Only the Special Primary (02/02/10) Must File
Year-End | —WAIVED —
Pre-Primary | 01/13/10 | ² 01/18/10 | 01/21/10
April Quarterly | 03/31/10 | 04/15/10 | 04/15/10
Committees Involved in Both the Special Primary (02/02/10) and Special General (04/13/10) Must File
Year-End | —WAIVED—
Pre-Primary | 01/13/10 | ² 01/18/10 | 01/21/10
Pre-General | 03/24/10 | 03/29/10 | 04/01/10
April Quarterly | 03/31/10 | 04/15/10 | 04/15/10
Post-General | 05/03/10 | 05/13/10 | 05/13/10
July Quarterly | 06/30/10 | 07/15/10 | 07/15/10
Committees Involved in Only the Special General (04/13/10) Must File
Pre-General | 03/24/10 | 03/29/10 | 04/01/10
April Quarterly | 03/31/10 | 04/15/10 | 04/15/10
Post-General | 05/03/10 | 05/13/10 | 05/13/10
July Quarterly | 06/30/10 | 07/15/10 | 07/15/10
¹ The reporting period always begins the day after the closing date of the last report filed. If the committee is new and has not previously filed a report, the first report must cover all activity that occurred before the committee registered as a political committee with the Commission up through the close of books for the first report due.
² Notice that the registered/certified & overnight mailing deadline falls on a federal holiday. The report should be postmarked on or before that date.

On behalf of the Commission.
Dated: December 8, 2009.
Steven T. Walther,
Chairman, Federal Election Commission.

[FR Doc. E9-29611 Filed 12-11-09; 8:45 am]

BILLING CODE 6715-01-P